DEPARTMENT OF TRANSPORTATION

Federal Aviation Administration

14 CFR Part 39

[Docket No. FAA-2007-28308; Directorate Identifier 2007-NM-016-AD]

RIN 2120-AA64

Airworthiness Directives; Raytheon (Beech) Model 400, 400A, and 400T Series Airplanes

AGENCY: Federal Aviation Administration (FAA), Department of Transportation (DOT).

ACTION: Notice of proposed rulemaking (NPRM).

SUMMARY: The FAA proposes to adopt a new airworthiness directive (AD) for certain Raytheon (Beech) Model 400, 400A, and 400T series airplanes. This proposed AD would require modifying the attachment fasteners on the engine cowling panels. This proposed AD results from several reports of loose attachment fasteners found on the engine cowling panels, and subsequently the panels either peeling back or separating from the airplane during flight. We are proposing this AD to prevent failure of the attachment fasteners on the engine cowling panels, which could result in separation of a panel from the airplane, and consequent damage to airplane structure. These conditions could adversely affect continued safe flight and landing of the airplane, or cause injury to people or damage to property on the ground.

DATES: We must receive comments on this proposed AD by July 13, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Raytheon Aircraft Company, Department 62, P.O. Box 85, Wichita, Kansas, 67201-0085, for the service information identified in this proposed AD.

FOR FURTHER INFORMATION CONTACT: William Griffith, Aerospace Engineer, Airframe and Services Branch, ACE-118W, FAA, Wichita Aircraft Certification Office, 1801 Airport Road, Room 100, Mid-Continent Airport, Wichita, Kansas 67209; telephone (316) 946-4116; fax (316) 946-4107.

SUPPLEMENTARY INFORMATION:

Comments Invited

We invite you to submit any relevant written data, views, or arguments regarding this proposed AD. Send your comments to an address listed in the ADDRESSES section. Include the docket number “FAA-2007-28308; Directorate Identifier 2007-NM-016-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received several reports indicating loose attachment fasteners (¼-turn fasteners not fully engaged) were found on the engine cowling panels on certain Raytheon (Beech) Model 400, 400A, and 400T series airplanes. Subsequently, the cowling panels either peeled back or separated from the airplane during flight. In one incident a cowling piece departed the airplane and landed within 50 feet of a residence. Investigation revealed that the loose fasteners are not detected during the pre-flight inspection and that aerodynamic loads may forcibly separate the panel from the airplane during flight. The separation forces could result in the panel causing damage to the engine or nacelle installation, in addition to other parts of the airplane. These conditions could adversely affect continued safe flight and landing of the airplane, or cause injury to people or damage to property on the ground.

Relevant Service Information

We have reviewed Raytheon Service Bulletin SB 54-3788, dated December, 2006. The service bulletin describes procedures for modifying the attachment fasteners on the engine cowling panels. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously.

Costs of Compliance

There are about 757 airplanes of the affected design in the worldwide fleet. This proposed AD would affect about 575 airplanes of U.S. registry. The proposed actions would take about 10 work hours per airplane, at an average labor rate of $80 per work hour. Required parts would cost about $400 per airplane. Based on these figures, the estimated cost of the proposed AD for U.S. operators is $690,000, or $1,200 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Raytheon Aircraft Company (Formerly Beech): Docket No. FAA-2007-28308; Directorate Identifier 2007-NM-016-AD.

Comments Due Date

(a) The FAA must receive comments on this AD action by July 13, 2007.

Affected ADs

(b) None.

Applicability

(c) This AD applies to Raytheon (Beech) Model 400, 400A, and 400T series airplanes, certificated in any category; as identified in Raytheon Service Bulletin SB 54-3788, dated December, 2006.

Unsafe Condition

(d) This AD results from several reports of loose attachment fasteners found on the engine cowling panels, and subsequently the panels either peeling back or separating from the airplane during flight. We are issuing this AD to prevent failure of the attachment fasteners on the engine cowling panels, which could result in separation of a panel from the airplane, and consequent damage to airplane structure. These conditions could adversely affect continued safe flight and landing of the airplane, or cause injury to people or damage to property on the ground.

Compliance

(e) You are responsible for having the actions required by this AD performed within the compliance times specified, unless the actions have already been done.

Modification

(f) Within 200 flight hours after the effective date of this AD: Modify the attachment fasteners on the engine cowling panels by doing all the actions in accordance with the Accomplishment Instructions of Raytheon Service Bulletin SB 54-3788, dated December, 2006.

Alternative Methods of Compliance (AMOCs)

(g)(1) The Manager, Wichita Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on May 22, 2007.
Ali Bahrami,
Manager, Transport Airplane Directorate, Aircraft Certification Service.

[FR Doc. E7-10216 Filed 5-25-07; 8:45 am]

BILLING CODE 4910-13-P